ENVIRONMENTAL PROTECTION AGENCY

ER-FRL-8589-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080415, ERP No. D-FHW-L40235-ID, I-90 Post Falls Access Improvements Project, Transportation Improve from Spokane Street Interchange through the State Highway 41 (SH-41) Interchange, Kootenai County, ID

Summary: EPA has no objections to the proposed project. Rating LO.

EIS No. 20080389, ERP No. DA-AFS-L65369-00, Southwest Idaho Ecogroup Land and Resource Management Plan, Provide Additional Information to Reanalyzes the Effects of Current and Proposed Management on Rock Mountain Bighorn Sheep Viability in the Payette National Forest 2003 FEIS, Boise National Forest, Payette National Forest and Sawtooth National Forest, Forest Plan Revision, Implementation, Several Counties, ID; Malhaur County, OR and Box Elder County, UT.

Summary: EPA expressed environmental concerns about disease transmission between bighorn sheep and domestic sheep, the uncertainty in modeling, and monitoring details. Rating EC2.

EIS No. 20080442, ERP No. DS-AFS-J65469-CO, White River National Forest Travel Management Plan, Updated Information for the Preferred Alternative, To Accommodate and Balance Transportation Needs, Implementation, Eagle, Garfield, Gunnison, Mesa, Moffat, Pitkin, Rio Blanco, Routt and Summit Counties, CO.

Summary: EPA's previous concerns were resolved, therefore EPA has no objections to the proposed action. Rating LO.

Final EISs

EIS No. 20080487, ERP No. F-AFS-F65035-WA, Cayuga Project, Proposed Vegetation and Transportation Management Activities northeast of Clam Lake, Preferred Alternative Selected Alternative 7, Great Divide Ranger District, Chequamegon-Nicolet National Forest, Ashland County, WI.

Summary: EPA's concerns about marten habitat have been addressed. Therefore, EPA has no objections to the project.

EIS No. 20080488, ERP No. F-FHW-F40442-MI, Detroit River International Crossing Study, Propose Border Crossing System between the International Border Cities of Detroit, Michigan and Windsor, Ontario, Wayne County, MI.

Summary: EPA has no objections to the proposed project.

EIS No. 20080495, ERP No. F-USN-K10011-CA, Southern California (SOCAL) Range Complex, To Organize, Train, Equip, and Maintain Combat-Ready Naval Forces, San Diego, Orange and Los Angeles Counties, CA.

Summary: EPA continues to have environmental concerns about impacts to marine resources and ocean water quality from munitions.

EIS No. 20080501, ERP No. F-AFS-J65500-00, Wild and Scenic River Suitability Study for National Forest System Lands on the Ashley, Dixie, Fishlake, Manti-La Sal, Uinta and Wasatch-Cache National Forests in UT and Portion of National Forests extend into Colorado and Wyoming, several counties, UT, Montrose County, CO and Uinta County, WY.

Summary: No formal comment letter was sent to the preparing agency.

Dated: January 16, 2009.
Ken Mittelholtz,
Environmental Protection Specialist, Office of Federal Activities.

[FR Doc. E9-1395 Filed 1-22-09; 8:45 am]

BILLING CODE 6560-50-P